DEPARTMENT OF TRANSPORTATION

Federal Aviation Administration

14 CFR Part 73

[Docket No. FAA-2016-9594; Airspace Docket No. 16-ASO-20]

RIN 2120-AA66

Proposed Establishment of Temporary Restricted Areas R-2920A and R-2920B; Santa Rosa Island, FL.

AGENCY: Federal Aviation Administration (FAA), DOT.

ACTION: Notice of proposed rulemaking (NPRM).

SUMMARY: This action proposes to establish two temporary restricted areas, designated R-2920A and R-2920B, south of the Eglin Air Force Base (AFB), FL, Range Complex and within the 14 CFR part 93 “Valparaiso, Florida, Terminal Area” Special Air Traffic Rules Area. The purpose of the proposed areas is to test counter-unmanned aircraft systems capabilities. The temporary restricted areas would be in effect from May 11 to May 18, 2017.

DATES: Comments must be received on or before March 27, 2017.

ADDRESSES: Send comments on this proposal to the U.S. Department of Transportation, Docket Operations, 1200 New Jersey Avenue SE., West Building Ground Floor, Room W12-140, Washington, DC 20590; telephone: 1 (800) 647-5527, or (202) 366-9826. You must identify FAA Docket No. FAA-2016-9594 and Airspace Docket No. 16-ASO-20, at the beginning of your comments. You may also submit comments through the Internet at http://www.regulations.gov. Comments on environmental and land use aspects should be directed to: April Lawrence, Civ, USAF, 96 CEG/CEIEA, Eglin AFB, FL 32542; telephone: (850) 882-3016. You may review the public docket containing the proposal, any comments received, and any final disposition in person in the Docket Office between 9:00a.m. and 5:00 p.m., Monday through Friday, except Federal holidays. The Docket Office (telephone 1 (800) 647-5527), is on the ground floor of the building at the above address.

FOR FURTHER INFORMATION CONTACT: Paul Gallant, Airspace Policy Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would establish temporary restricted areas near Santa Rosa Island, FL, to enhance aviation safety and accommodate essential testing requirements.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2016-9594 and Airspace Docket No. 16-ASO-20) and be submitted in triplicate to the Docket Management Facility (see ADDRESSES section for address and phone number). You may also submit comments through the Internet at www.regulations.gov.

Commenters wishing the FAA to acknowledge receipt of their comments on this action must submit with those comments a self-addressed, stamped postcard on which the following statement is made: “Comments to FAA Docket No. FAA-2016-9594 and Airspace Docket No. 16-ASO-20.” The postcard will be date/time stamped and returned to the commenter.

All communications received on or before the specified closing date for comments will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the Internet at www.regulations.gov. Recently published rulemaking documents can also be accessed through the FAA's Web page at http://www.faa.gov/air_traffic/publications/airspace_amendments/.

You may review the public docket containing the proposal, any comments received and any final disposition in person at the Docket Office (see ADDRESSES section for address and phone number) between 9:00 a.m. and 5:00 p.m., Monday through Friday, except Federal holidays. An informal docket may also be examined during normal business hours at the office of the Eastern Service Center, Federal Aviation Administration, Room 210, 1701 Columbia Ave., College Park, GA, 30337.

Background

The U.S. Air Force submitted a proposal to the FAA to establish two temporary restricted areas south of the Eglin AFB, FL, Range Complex. The areas would contain hazardous activities to be conducted in support of exercise Black Dart 2017, from May 11 to May 18, 2017. Specifically, the areas would be used to test counter-unmanned aircraft systems capabilities. A temporary flight restriction (TFR) of similar size and shape to the proposed temporary restricted areas was exercised in September 2016 with no issues from non-participating air traffic.

The Proposal

The FAA is proposing an amendment to 14 CFR part 73 to establish two temporary restricted areas, designated R-2920A and R-2920B, south of the Eglin AFB Range Complex, in the vicinity of Santa Rosa Island, FL. They would extend from the surface to but not including 8,500 feet MSL, underlying a portion of existing restricted area R-2915C. The planned time of designation for the areas is 0900 to 1600 local time. Approximately 20-30 sorties per day are expected to use the temporary restricted areas. The areas would be in effect only during the period May 11 to May 18, 2017.

The proposed temporary restricted areas are required to contain hazardous activities associated with testing counter-unmanned aircraft systems capabilities. These activities would include the use of Directed Energy (laser) devices and Electronic Attack jamming and disruptions. All hazard zones would be contained within the proposed temporary restricted areas, existing restricted airspace, or existing offshore warning areas. Eglin AFB air and surface assets would surveil and clear the mission and hazard areas prior to execution of hazardous activity. Should a stray aircraft or surface vessel approach a hazard zone, all hazardous activity would be halted until the area is again reported clear. The Eglin AFB Range Complex utilizes extensive range safety procedures to manage all hazardous activities.

The proposed areas are contained within the west section of the East/West Corridor of the 14 CFR part 93 Special Air Traffic Rule: “Valparaiso, Florida Terminal Area.” In accordance with 14 CFR 93.81: Unless otherwise authorized by ATC (including the Eglin Radar Control Facility), no person may operate an aircraft in flight within the East-West Corridor unless—

(1) Before operating within the corridor, that person establishes two-way radio communications with Eglin Radar Control Facility or an appropriate FAA ATC facility and receives an ATC advisory concerning operations being conducted therein; and

(2) That person maintains two-way radio communications with the Eglin Radar Control Facility or an appropriate FAA ATC facility while within the corridor.

To minimize impacts to non-participating aircraft, in addition to the existing part 93 requirement that aircraft operating in the East/West Corridor must establish and maintain two-way radio contact with ATC, the Eglin Radar Control Facility would reroute all non-participating aircraft north of the temporary restricted airspace, through the southern portion of restricted area R-2915B. That airspace would be scheduled for use by ATC and non-participating air traffic when the temporary restricted areas are active. This alternative routing has been successfully used in the past to mitigate impacts on non-participating aircraft when the west section of the East/West Corridor was unavailable. Emergency air traffic requiring access to the airspace would be given priority access under the control of the Eglin Radar Control Facility, which has direct communications with the Test Director to halt hazardous activity in the area.

Notices to Airmen (NOTAM) and Notices to Mariners (NOTMAR) would be published at least 24 hours in advance of the daily activation of R-2920A and R-2920B. The Eglin AFB Public Affairs office would issue a press release 30 days prior to the exercise to advise the public of the exercise, the activity, and impacted locations. The Eglin AFB Flight Safety Office would advise local airports and airspace users of the proposed restricted airspace, its impacts and planned mitigations.

Since R-2920A and R-2920B are temporary areas, they would not be depicted on the New Orleans Sectional Aeronautical Chart or the IFR Enroute Low Altitude Chart, L-22. However, a notice and graphic depiction would be published in the Notices to Airmen Publication (NTAP). The NTAP is available on line at http://www.faa.gov/air_traffic/publications/notices/.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subjected to an environmental analysis in accordance with FAA Order 1050.1F, “Environmental Impacts: Policies and Procedures,” prior to any FAA final regulatory action.

List of Subjects in 14 CFR Part 73

Airspace, Prohibited Areas, Restricted Areas.

The Proposed Amendment

In consideration of the foregoing, the Federal Aviation Administration proposes to amend 14 CFR part 73 as follows:

PART 73—SPECIAL USE AIRSPACE

1. The authority citation for part 73 continues to read as follows:

Authority: 49 U.S.C. 106(f), 106(g); 40103, 40113, 40120; E.O. 10854, 24 FR 9565, 3 CFR, 1959-1963 Comp., p. 389.

§ 73.29 Florida (Amended)

2. § 73.29 is amended as follows:

* * * * *

R-2920A Santa Rosa Island, FL [Temporary]

Boundaries. Beginning at lat. 30°22′53″ N., long. 86°50′57″ W.; thence along the shoreline to lat. 30°23′35″ N., long. 86°44′24″ W.; to lat. 30°20′34″ N., long. 86°44′07″ W.; thence 3 NM from and parallel to the shoreline to lat. 30°19′53″ N., long. 86°50′39″ W.; to the point of beginning.

Designated altitudes. Surface to but not including 8,500 feet MSL.

Time of designation. 0900 to 1600 local time, during the period May 11 to May 18, 2017.

Controlling agency. FAA, Jacksonville ARTCC.

Using agency. U.S. Air Force, Commander, 96th Test Wing, Eglin AFB, FL.

R-2920B Santa Rosa Island, FL [Temporary]

Boundaries. Beginning at lat. 30°23′35″ N., long. 86°44′24″ W.; thence along the shoreline to lat. 30°23′40″ N., long. 86°42′52″ W.; to lat. 30°20′40″ N., long. 86°42′35″ W.; thence 3 NM from and parallel to the shoreline to lat. 30°20′34″ N., long. 86°44′07″ W.; to the point of beginning.

Designated altitudes. Surface to but not including 8,500 feet MSL.

Time of designation. 0900 to 1600 local time, during the period May 11 to May 18, 2017.

Controlling agency. FAA, Jacksonville ARTCC.

Using agency. U.S. Air Force, Commander, 96th Test Wing, Eglin AFB, FL.

* * * * *

Issued in Washington, DC on February 8, 2017.
Leslie M. Swann,
Acting Manager, Airspace Policy Group.

[FR Doc. 2017-03537 Filed 2-22-17; 8:45 am]

BILLING CODE 4910-13-P